DEPARTMENT OF COMMERCE

International Trade Administration

[A-428-830]

Notice of Amended Final Determination of Sales at Less Than Fair Value and Antidumping Duty Order: Stainless Steel Bar From Germany

AGENCY: Import Administration, International Trade Administration, Department of Commerce.

ACTION: Notice of amended final determination of sales at less than fair value and Antidumping Duty Order.

EFFECTIVE DATE: March 7, 2002.

FOR FURTHER INFORMATION CONTACT: Andrew McAllister or Craig Matney, (202) 482-1174 or (202) 482-1778, respectively; Import Administration, International Trade Administration, U.S. Department of Commerce, 14th Street and Constitution Avenue, NW., Washington, DC 20230.

Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce (“Department”) regulations are to 19 CFR part 351 (April 2000).

Scope of Order

For purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The stainless steel bar subject to this investigation is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of this investigation is dispositive.

Amended Final Determination

On January 15, 2002, the Department determined that stainless steel bar from Germany is being sold in the United States at less than fair value (“LTFV”), as provided in section 735(a) of the Act. See Notice of Final Determination of Sales at Less Than Fair Value: Stainless Steel Bar from Germany, 67 FR 3159 (January 23, 2002) (“SSB Germany Final Determination”). On January 28, 2002, we received ministerial error allegations, timely filed pursuant to 19 CFR 351.224(c)(2), from the BGH Group of Companies (“BGH”), Edelstahl Witten-Krefeld GmbH (“EWK”) and Krupp Edelstahlprofile (“KEP”) regarding the Department's final margin calculations. ¹ BGH, EWK and KEP requested that we correct the errors and publish a notice of amended final determination in the Federal Register, pursuant to 19 CFR 351.224(e). BGH's submission alleges that the Department inadvertently failed to fully incorporate certain intended revisions to variable cost of manufacturing and to factory overhead in its programming language. EWK and KEP assert that there was a flaw in the programming language used for model matching.

¹ We did not receive ministerial error allegations concerning the final determination margin calculations for Walzwerke Einsal GmbH (“Einsal”).

The petitioners in this proceeding did not submit comments on the BGH, EWK or KEP's ministerial error allegations.

In accordance with section 735(e) of the Act, we have determined that ministerial errors in the calculation of BGH's home market variable cost of manufacturing and factory overhead were made in our final margin calculations. Also, we have determined that there were ministerial errors in the computer programming in our final margin calculations for EWK and KEP. In addition, because the margin programs are identical in this respect for each of the four respondents in this investigation, we have revised the final determination margin programs for all four respondents. For a detailed discussion of the above-cited ministerial error allegation and the Department's analysis, see Memorandum to Richard W. Moreland, “Allegation of Ministerial Error; Final Determination in the Antidumping Duty Investigation of Stainless Steel Bar from Germany” dated February 22, 2002, which is on file in the Central Records Unit (“CRU”), room B-099 of the main Department building.

Therefore, in accordance with 19 CFR 351.224(e), we are amending the final determination of the antidumping duty investigation of stainless steel bar from Germany to correct these ministerial errors. The “All Others” rate has been revised as well. The revised final weighted-average dumping margins are as follows:

1Exporter/Manfacturer
Exporter/manufacturer | Original weighted-average margin percentage | Revised weighted-average margin percentage
BGH | 16.62 | 13.63
Einsal | 4.31 | 4.17
EWK | 15.54 | 15.40
KEP | 32.24 | 32.32
All Others | 17.77 | 16.96

Antidumping Duty Order

In accordance with section 735(a) of the Act, the Department published its final determination that stainless steel bar from Germany is being, or is likely to be, sold in the United States at LTFV. See SSB Germany Final Determination. On February 28, 2002, the International Trade Commission notified the Department of its final determination pursuant to section 735(b)(1)(A)(i) of the Act that an industry in the United States is materially injured by reason of LTFV imports of subject merchandise from Germany. Therefore, in accordance with section 736(a)(1) of the Act, the Department will direct the Customs Service to assess, upon further advice by the Department, antidumping duties equal to the amount by which the normal value of the merchandise exceeds the export price or constructed export price of the merchandise for all relevant entries of stainless steel bar from Germany. These antidumping duties will be assessed on all unliquidated entries of imports of the subject merchandise that are entered, or withdrawn from warehouse, for consumption on or after August 2, 2001, the date on which the Department published its notice of affirmative preliminary determination in the Federal Register (66 FR 40214).

On or after the date of publication of this notice in the Federal Register, Customs Service officers must require, at the same time as importers would normally deposit estimated duties, a cash deposit equal to the estimated weighted-average antidumping duty margins as noted below. The “All Others” rate applies to all exporters of subject merchandise not specifically listed. The weighted-average dumping margins are as follows:

Exporter/manufacturer | Revised weighted-average margin percentage
BGH | 13.63
Einsal | 4.17
EWK | 15.40
KEP | 32.32
All Others | 16.96

This notice constitutes the antidumping duty order with respect to stainless steel bar from Germany, pursuant to section 736(a) of the Act. Interested parties may contact the Department's CRU for copies of an updated list of antidumping duty orders currently in effect.

This order is published in accordance with section 736(a) of the Act and 19 CFR 351.211.

Dated: March 4, 2002.
Faryar Shirzad,
Assistant Secretary for Import Administration.

[FR Doc. 02-5645 Filed 3-6-02; 8:45 am]

BILLING CODE 3510-DS-P